Title 3—

The President

Proclamation 7565 of May 21, 2002

National Maritime Day, 2002

By the President of the United States of America

A Proclamation

Our commercial maritime tradition dates back to the founding of our Nation; and it continues to play an important role today, moving passengers and freight, protecting our freedom, and linking our citizens to the world.

Merchant mariners have served America with distinction throughout our history, but especially at critical moments. Before World War II, they made dangerous and difficult voyages carrying vital supplies to Europe. During that war, more than 700 United States merchant ships were lost to attack, and more than 6,000 merchant mariners lost their lives. Merchant mariners played a vital role in the Korean Conflict, especially in the rescue of 14,000 Korean civilians by the SS MEREDITH VICTORY. During the Vietnam War, ships crewed by civilian seamen carried 95 percent of the supplies used by our Armed Forces. Many of these ships sailed into combat zones under fire. In fact, the SS MAYAGUEZ incident involved the capture of mariners from the American merchant ship SS MAYAGUEZ.

More recently, during the Persian Gulf War merchant mariners were vital to the largest sealift operation since D-Day. And after the tragic attacks of September 11th, professional merchant mariners and midshipmen from the United States Merchant Marine Academy transported personnel and equipment and moved food and supplies to lower Manhattan. Their efforts enhanced rescue operations and helped save many lives.

Today, the men and women of the United States Merchant Marine and thousands of other workers in our Nation's maritime industry continue to make immeasurable contributions to our economic strength and our ongoing efforts to build a more peaceful world. We must ensure our maritime system can meet the challenges of the 21st century. As cargo volume is expected to double within the next 20 years, a viable maritime network will help our country compete in our global economy.

Accordingly, my Administration is working with government agencies, the shipping industry, labor, and environmental groups to ensure that our waterways remain a sound transportation option that complements our overland transportation network.

In recognition of the importance of the U.S. Merchant Marine, the Congress, by joint resolution approved on May 20, 1933, as amended, has designated May 22 of each year as “National Maritime Day,” and has authorized and requested that the President issue an annual proclamation calling for its appropriate observance.

NOW, THEREFORE, I, GEORGE W. BUSH, President of the United States of America, do hereby proclaim May 22, 2002, as National Maritime Day. I call upon the people of the United States to celebrate this observance and to display the flag of the United States at their homes and in their communities. I also request that all ships sailing under the American flag dress ship on that day.

IN WITNESS WHEREOF, I have hereunto set my hand this twenty-first day of May, in the year of our Lord two thousand two, and of the Independence of the United States of America the two hundred and twenty-sixth.

B

[FR Doc. 02-13267

Filed 5-23-02; 8:45 am]

Billing code 3195-01-P